DEPARTMENT OF HEALTH AND HUMAN SERVICES

Administration for Children and Families

Submission for OMB Review; Comment Request

Title: Parents and Children Together—Discussion Guide.

OMB No.: New Collection.

Description: The Administration for Children and Families (ACF), U.S. Department of Health and Human Services is proposing an information collection activity as part of an evaluation of healthy marriage and responsible fatherhood grant programs. The evaluation study title is Parents and Children Together (PACT). This phase of information collection will involve discussion of a range of topics with key informants in grantee and partner organizations such as their organizational structure, program services, populations served and specific approaches for the grant programs. The information will be used by ACF for the identification and selection of grantee programs to be included in the evaluation.

Respondents: Semi-structured discussions will be held with administrators and managers of healthy marriage and responsible fatherhood grants and, where appropriate, administrators and managers of key partner agencies.

Annual Burden Estimates
Instrument | Annual number of respondents | Number of responses per respondent | Average burden hours per response | Total annual burden hours
Discussion Guide | 150 | 1 | 1 | 150

Estimated Total Annual Burden Hours: 150.

Additional Information: Copies of the proposed collection may be obtained by writing to the Administration for Children and Families, Office of Planning, Research, and Evaluation, 370 L'Enfant Promenade SW., Washington, DC 20447, Attn: OPRE Reports Clearance Officer. All requests should be identified by the title of the information collection. Email address: OPREinfocollection@acf.hhs.gov. In compliance with the requirements of Section 3506(c)(2)(A) of the Paperwork Reduction Act of 1995, the Administration for Children and Families is soliciting public comment on the specific aspects of the information collection described above.

Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: (202) 395-6974, Attn: Desk Officer for the Administration for Children and Families.

Dated: January 18, 2012.
Steven M. Hanmer,
Reports Clearance Officer, Office of Planning, Research and Evaluation.

[FR Doc. 2012-1569 Filed 1-26-12; 8:45 am]

BILLING CODE 4184-37-M